DEPARTMENT OF THE DEFENSE

Department of the Army; Corps of Engineers

Intent To Prepare a Draft Supplemental Environmental Impact Statement for the Jacksonville Harbor Navigation Study, General Re-Evaluation Report, Located in Duval County, FL

AGENCY: Department of the Army, U.S. Army of Corps of Engineers, DoD.

ACTION: Notice of intent.

SUMMARY: The U.S. Army Corps of Engineers (Corps), Jacksonville District, intends to prepare a Draft Supplemental Environmental Impact Statement (DSEIS), for the Jacksonville Harbor Navigation Study, General Re-Evaluation Report. This action is a cooperative effort between the Corps and the Jacksonville Harbor Port Authority.

ADDRESSES: U.S. Army Corps of Engineers, Planning Division, Environmental Branch, P.O. Box 4970, Jacksonville, FL 32232-0019.

FOR FURTHER INFORMATION CONTACT: Mr. Paul Stodola, by e-mail Paul.E.Stodola@saj02.usace.army.mil or by telephone at (904) 232-3271.

SUPPLEMENTARY INFORMATION: a. The Jacksonville Part Authority has requested that the Corps study the feasibility of further deepening the Port of Jacksonville. The proposed DSEIS for additional deepening would supplement the Jacksonville Harbor Navigation Improvements EIS completed in July 1996. Authorization for the study is contained in House Report 107-681 and the Senate explanatory statement as delineated in the Congressional Record of January 15, 2003, pages S492 and S546.

b. Objectives. The objectives of the study are to determine if light loading of ships, tidal delay, or other commercial navigation benefits exist to justify additional deepening below the existing 40-foot project depth from the entrance channel to river mile 20 and for Cuts F and G of the West Blount Island Channel; evaluate measures including wideners along the Trout River Cut Range, and Quarantine (Bartram) Island Upper Range which would reduce navigation concerns and improve ship traffic safety; examine the impact of channel deepening on the capacity of existing upland confined disposal facilities and the offshore dredge material disposal site; evaluate new upland confined disposal facilities, if required; determine if beneficial uses of dredged material such as manufactured soils, recycling of dredged material for construction fill, development of artificial reefs, or use of beach quality material for placement along adjacent beaches would provide appropriate alternatives for disposal of dredged material; evaluate the impact of deepening and widening measures on shoaling rates for existing and advanced harbor maintenance needs; examine the hydrodynamic and environmental effects of the deepening and widening measures on Chicopit Bay, White Shells Bay, Mill Cove and adjacent harbor shorelines; identify environmental and cultural resources in the study area and potential impacts from deepening or widening to those resources; identify the NED plan for Jacksonville Harbor which most efficiently and safely accommodates existing and larger commercial ship and barge traffic while avoiding or minimizing impacts to environmental resources.

c. Alternatives. The proposed alternatives include making no further improvements to the project (no action alternatives); deepening the project channel in 1 foot increments from the existing depth of 40 feet from the entrance channel (mouth of St. Johns River) extending upstream to river mile 20; constructing channel wideners; and dredged material placement in upland disposal areas, artificial reefs, approved beach areas, and the designated Ocean Dredged Material Disposal Site.

d. Issues. The DEIS will consider the possible effects of blasting on aquatic resources, loss of wetlands from expansion of upland disposal areas at Bartram Island, as well as other project related impacts on protected species, water quality, fish and wildlife resources, cultural resources, essential fish habitat, socio-economic resources coastal processes, aesthetics and recreation, and other impacts identified through scoping, public involvement, and agency coordination.

e. Scoping Process. The scoping process as outlined by the Council on Environmental Quality would be utilized to involve Federal, State, and local agencies, and other interested persons and organizations. A scoping letter would be sent to the appropriate parties requesting comments and concerns regarding issues to consider during the study. Public scoping meetings would be held. Exact dates, times, and locations would be published in local papers.

f. Coordination. The proposed action is being coordinated with the U.S. Fish and Wildlife Service (FWS) and the National Marine Fisheries Service under Section 7 of the Endangered Species Act, with the FWS under the Fish and Wildlife Coordination Act, and with the State Historic Preservation Officer.

g. Other Environmental Review and Consultation. The proposed action would involve evaluation for compliance with guidelines pursuant to Section 404(b) of the Clean Water Act; application (to the State of Florida) for Water Quality Certification pursuant to Section 401 of the Clean Water Act; certification of state lands, easements, and rights of way; Essential Fish Habitat with National Marine Fisheries Service; and determination of Coastal Zone Management Act consistency.

h. Agency Role. The non-Federal sponsor (Jacksonville Port Authority) will provide extensive information and assistance on the resources to be impacted, mitigation measures, and alternatives.

i. DSEIS Preparation. It is estimated that the DSEIS will be available to the public on or about three years after completion of the Feasibility Scoping Meeting currently scheduled for September 2007.

Dated: April 2, 2007.
Stuart J. Appelbaum,
Chief, Planning Division.

[FR Doc. 07-1835 Filed 4-12-07; 8:45 am]

BILLING CODE 3710-AJ-M